DEPARTMENT OF COMMERCE

International Trade Administration

[A-570-822]

Certain Helical Spring Lock Washers From the People's Republic of China: Rescission of Antidumping Duty Administrative Review

AGENCY: Import Administration, International Trade Administration, Department of Commerce.

EFFECTIVE DATE: April 2, 2010.

FOR FURTHER INFORMATION CONTACT: Patricia M. Tran, AD/CVD Operations, Office 1, Import Administration, International Trade Administration, U.S. Department of Commerce, 14th Street and Constitution Avenue, NW, Washington, DC 20230; telephone: (202) 482-1503.

SUPPLEMENTARY INFORMATION:

Background

On October 1, 2009, the Department of Commerce (“the Department”) published a notice announcing the opportunity to request an administrative review of the antidumping duty order on certain helical spring lock washers from the People's Republic of China for the period October 1, 2008 through September 30, 2009. See Antidumping or Countervailing Duty Order, Finding, or Suspended Investigation; Opportunity To Request Administrative Review, 74 FR 50772 (October 1, 2009). On November 2, 2009, in accordance with 19 CFR 351.213(b), the Department received a timely request from Shakeproof Assembly Components Division of Illinois Tool Works Inc., the petitioner, to conduct an administrative review of Hangzhou Spring Washer Co., Ltd., also known as Zheijang Wanxin Group Co., Ltd (“Hangzhou”). No other party requested an administrative review.

On November 25, 2009, the Department published a notice of initiation of an antidumping duty administrative review of Hangzhou. See Initiation of Antidumping and Countervailing Duty Administrative Reviews, 74 FR 61658 (November 25, 2009).

Rescission of Administrative Review

If a party that requested an administrative review withdraws the request within 90 days of the date of publication of notice of initiation of the requested administrative review, the Secretary will rescind the administrative review pursuant to 19 CFR 351.213(d)(1). On March 16, 2010, the petitioner withdrew its request with respect to Hangzhou. Although the 90-day deadline to withdraw an administrative review request in the instant administrative review was March 2, 2010, pursuant to 19 CFR 351.213(d)(1), the Secretary may extend the 90-day time limit if it is reasonable to do so.¹ The Department determines it is reasonable to do so in this case because it has not expended significant resources conducting this administrative review with respect to Hangzhou. Specifically, the Department has not completed its full analysis of Hangzhou's sales or factors of production data for the period of review nor has it calculated a preliminary margin for Hangzhou. Therefore, in accordance with 19 CFR 351.213(d)(1), and consistent with our practice, the Department is rescinding this administrative review.

¹ As explained in the memorandum from the Deputy Assistant Secretary for Import Administration, the Department has exercised its discretion to toll deadlines for the duration of the closure of the Federal Government from February 5, through February 12, 2010. Thus, all deadlines in this segment of the proceeding have been extended by seven days. The revised deadline to withdraw an administrative review request is March 2, 2010. See Memorandum to the Record from Ronald Lorentzen, DAS for Import Administration, regarding “Tolling of Administrative Deadlines As a Result of the Government Closure During the Recent Snowstorm,” dated February 12, 2010.

Assessment

The Department will instruct U.S. Customs and Border Protection (“CBP”) to assess antidumping duties at the cash deposit rate in effect on the date of entry, for entries during the period October 1, 2008 through September 30, 2009. The Department intends to issue appropriate assessment instructions to CBP 15 days after publication of this notice of rescission of administrative review.

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

Notification Regarding Administrative Protective Order

This notice serves as a final reminder to parties subject to administrative protective orders (“APO”) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Act and 19 CFR 351.213(d)(4).

Dated: March 26, 2010.
John M. Andersen,
Acting Deputy Assistant Secretary for Antidumping and Countervailing Duty Operations.

[FR Doc. 2010-7521 Filed 4-1-10; 8:45 am]

BILLING CODE 3510-DS-S